FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012407.

Title: COSCON/WHL Slot Charter Agreement Asia—USWC.

Parties: COSCO Container Lines Company, Limited; Wan Hai Lines Ltd.; and Wan Hai Lines (Singapore) PTE Ltd.

Filing Party: Eric. C. Jeffrey, Esq.; Nixon Peabody LLP; 799 9th Street NW., Suite 500; Washington, DC 20001.

Synopsis: The agreement provides for the exchange of slots between COSCON and WHL on their respective services in the trade between the United States West Coast and China (including Hong Kong), Malaysia, Singapore, and Vietnam.

Agreement No.: 012408.

Title: WWL/Grimaldi Euromed SPA Space Charter Agreement.

Parties: Wallenius Wilhelmsen Logistics AS and Grimaldi Euromed SPA.

Filing Party: Wayne R. Rohde, Esq.; Cozen O'Connor LLP; 1200 Nineteenth St. NW.; Washington, DC 200036.

Synopsis: The Agreement authorizes the parties to charter space to/from one another on an “as needed/as available” basis in the trade between ports on the Atlantic Coast of the United States and ports in North Europe and on the Mediterranean Sea.

Agreement No.: 012409.

Title: CMA CGM/COSCON Slot Exchange Agreement Asia—U.S. West Coast.

Parties: CMA CGM S.A. and COSCO Container Lines Company, Limited.

Filing Party: Eric. C. Jeffrey, Esq.; Nixon Peabody LLP; 799 9th Street NW., Suite 500; Washington, DC 20001.

Synopsis: The agreement authorizes the parties to exchange slots on their respective services in the trade between the United States West Coast and the People's Republic of China (including Hong Kong), Singapore, Malaysia, Vietnam, and Canada.

Agreement No.: 201202-009.

Title: Oakland MTO Agreement.

Parties: Everport Terminal Services, Inc.; SSA Terminals, LLC; SSA Terminals (Oakland), LLC; and Trapac, Inc.

Filing Party: Wayne R. Rohde, Esq.; Cozen O'Connor; 1200 19th Street NW.; Washington, DC 20036.

Synopsis: The amendment deletes Ports America Outer Harbor Terminal, LLC as a party to the Agreement.

By Order of the Federal Maritime Commission.
Dated: May 6, 2016.
Rachel E. Dickon,
Assistant Secretary.

[FR Doc. 2016-11084 Filed 5-10-16; 8:45 am]

BILLING CODE 6731-AA-P